DEPARTMENT OF HEALTH AND HUMAN SERVICES

National Institutes of Health

Center for Scientific Review; Amended Notice of Meeting

Notice is hereby given of a change in the meeting of the Cellular and Molecular Biology of Neurodegeneration Study Section, October 10, 2013, 08:30 a.m. to October 11, 2013, 05:00 p.m., The Westin Arlington Gateway, 801 N. Glebe Road, Arlington, VA 22203 which was published in the Federal Register on September 17, 2013, 78 FR 57170.

The meeting will be held on December 2, 2013 from 8:00 a.m. to 8:00 p.m. at the Hotel Monaco Alexandria, 480 King Street, Alexandria, VA 22314. The meeting is closed to the public.

Dated: October 29, 2013.
Michelle Trout,
Program Analyst, Director, Office of Federal Advisory Committee Policy.

[FR Doc. 2013-26226 Filed 11-1-13; 8:45 am]

BILLING CODE 4140-01-P